DEPARTMENT OF COMMERCE

Foreign-Trade Zones Board

[B-15-2021]

Termination of Review of Production Notification, Foreign-Trade Zone (FTZ) 31—Granite City, Illinois, M.M.O. Companies, Inc. (Disassembly of Firearms and Ammunition), Mascoutah and Edwardsville, Illinois

On March 1, 2021, the America's Central Port District, grantee of FTZ 31, submitted a notification of proposed production activity to the FTZ Board on behalf of M.M.O. Companies, Inc., within Subzone 31E, in Mascoutah and Edwardsville, Illinois. The notification was processed in accordance with the regulations of the FTZ Board (15 CFR part 400), including notice in the Federal Register inviting public comment (86 FR 13281-13282, March 8, 2021). On June 29, 2021, the applicant was notified that review of the notification is being terminated, effective July 9, 2021.

Dated: June 29, 2021.
Andrew McGilvray,
Executive Secretary.

[FR Doc. 2021-14197 Filed 7-1-21; 8:45 am]

BILLING CODE 3510-DS-P